DEPARTMENT OF ENERGY

Federal Energy Regulatory Commission

[Project No. 13718-000]

Quality GearBox, LLC; Notice of Competing Preliminary Permit Application Accepted for Filing and Soliciting Comments and Motions To Intervene

May 10, 2010.

1. On April 28, 2010, Quality GearBox, LLC (Quality GearBox) filed an application for a preliminary permit, pursuant to section 4(f) of the Federal Power Act, proposing to study the feasibility of the Harpersfield Low Head Dam Hydroelectric Project No. 13718, to be located at the existing Harpersfield Dam, on the Grand River, in Ashtabula County, Ohio.

2. The proposed project would consist of: (1) An existing 8.5-foot-high by 325-foot-long gravity dam; (2) an existing 19-acre impoundment with a storage capacity of 133 acre feet; (3) an existing filtration plant to be converted into a powerhouse with three new turbine-generator units for a total installed capacity of 300 kilowatts; (4) a new 300-foot-long, 13.2-kilovolt transmission line; and (5) appurtenant facilities. The proposed project would operate in a run-of-river mode and would have an estimated average annual generation of 2,000 kilowatt-hours.

Applicant Contact: Mr. Devin Linehan, Managing Member, Quality GearBox, LLC, 5834 North River Road, Geneva, OH 44041; (440)-466-3207.

FERC Contact: Michael Watts; (202) 502-6123.

Competing Application: This application competes with Project No. 13627-000 filed November 6, 2009. Competing applications were due by close of business on April 30, 2010.

Deadline for filing comments or motions to intervene: 60 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filings-comments.asp. More information about this project, including a copy of the application, can be viewed or printed on the “eLibrary” link of the Commission's Web site at http://www.ferc.gov/docs-filing/elibrary.asp. Enter the docket number (P-13718) in the docket number field to access the document. For assistance, call toll-free 1-866-208-3372.

Kimberly D. Bose,
Secretary.

[FR Doc. 2010-11634 Filed 5-14-10; 8:45 am]

BILLING CODE 6717-01-P